DEPARTMENT OF THE INTERIOR

Bureau of Land Management

[16X L1109AF LLUTC03000.L16100000.DQ0000.LXSS004J0000 24-1A]

Notice of Availability of the Proposed Resource Management Plans for the Beaver Dam Wash and Red Cliffs National Conservation Areas; Proposed Amendment to the St. George Field Office Resource Management Plan; and Abbreviated Final Environmental Impact Statement, Utah

AGENCY: Bureau of Land Management, Interior.

ACTION: Notice.

SUMMARY: In accordance with the National Environmental Policy Act of 1969, as amended (NEPA), the Federal Land Policy and Management Act of 1976, as amended (FLPMA), and the Omnibus Public Lands Management Act of 2009 (OPLMA), the Bureau of Land Management (BLM) has prepared proposed resource management plans (RMPs) for the Beaver Dam Wash National Conservation Area and the Red Cliffs National Conservation Area and a proposed amendment to the St. George Field Office RMP (Proposed Amendment). The three planning efforts were initiated concurrently and are supported by a single environmental impact statement (EIS), and by this notice, the BLM is announcing their availability.

DATES: The BLM planning regulations state that any person who meets the conditions described in those regulations may protest the BLM's Proposed RMPs/Proposed Amendment and abbreviated Final EIS and must file the protest within 30 days following the date that the Environmental Protection Agency publishes its Notice of Availability in the Federal Register.

ADDRESSES: Copies of the Proposed RMPs/Proposed Amendment and abbreviated Final EIS have been sent to affected Federal and State agencies, tribal governments, local governmental entities, and to other stakeholders and members of the public who have requested copies. Copies of the Proposed RMPs/Proposed Amendment and abbreviated Final EIS are available for inspection at the Interagency Public Lands Information Center, 345 East Riverside Drive, St. George, UT 84790, and the BLM Utah State Office Public Room, 440 West 200 South, Suite 500, Salt Lake City, Utah 84101; during normal business hours (8 a.m. to 4:30 p.m.), Monday through Friday, except holidays. The Proposed RMPs/Proposed Amendment and abbreviated Final EIS are also available online at: http://bit.ly/2av3Q1i.

All protests must be in writing and mailed to one of the following addresses:

Regular Mail: BLM Director (210), Attention: Protest Coordinator, P.O. Box 71383, Washington, DC 20024-1383.

Overnight Delivery: BLM Director (210), Attention: Protest Coordinator, 20 M Street SE., Room 2134LM, Washington, DC 20003.

FOR FURTHER INFORMATION CONTACT: Keith Rigtrup, RMP Planner, telephone 435-865-3000; address: 345 East Riverside Drive, St. George, Utah 84790; email: krigtrup@blm.gov.

Persons who use a telecommunications device for the deaf may call the Federal Information Relay Service (FIRS) at 1-800-877-8339 to contact the above individual during normal business hours. The FIRS is available 24 hours a day, 7 days a week, to leave a message or question with the above individual. You will receive a reply during normal business hours.

SUPPLEMENTARY INFORMATION: The purpose of this planning process is to satisfy specific mandates from the Omnibus Public Land Management Act of 2009 (Pub. L. 111-11, at Title 1, Subtitle O, hereinafter OPLMA) that directed the Secretary of the Interior, through the BLM, to develop comprehensive management plans for the Beaver Dam Wash National Conservation Area (63,480 acres of public land) and the Red Cliffs National Conservation Area (44,859 acres of public land), located in Washington County, Utah. Both National Conservation Areas (NCAs) were established on March 30, 2009, when President Barack Obama signed OPLMA into law. The need to amend the St. George Field Office RMP (approved in 1999) is also derived from OPLMA. Section 1979(a)(1) and (2) of OPLMA directed the Secretary, through the BLM, to identify areas located in the county where biological conservation is a priority, and undertake activities to conserve and restore plant and animal species and natural communities within such areas. The decisions contained in the Proposed Amendment and abbreviated Final EIS do not pertain to private and State lands within the boundaries of the St. George Field Office planning area or the NCAs.

Section 1977(b)(1) of OPLMA, directed the BLM to develop a comprehensive travel management plan for public lands in Washington County. The St. George Field Office RMP must be amended to modify certain existing off-highway vehicle (OHV) area designations (open, limited or closed) before this comprehensive travel management plan can be developed.

BLM Utah developed the Proposed RMPs and Proposed Amendment by combining components of the four alternatives that were presented in the Draft RMPs and Draft Amendment and associated Draft EIS, released for public review on July 17, 2015. These alternatives contained goals, objectives, and management decisions for the two NCAs that were designed to address the long-term management of public land resources and land uses, while fulfilling the conservation purpose of the NCAs included in OPLMA. The alternatives identified in the Draft Amendment were developed to satisfy the requirements of OPLMA related to biological conservation and travel management and to comply with FLPMA and other relevant Federal laws, regulations, and agency policies.

Alternatives Considered in the Draft RMPs for the Beaver Dam Wash and Red Cliffs NCAs and Draft EIS

The four alternatives considered in the Draft RMPs and Draft EIS included the following:

Alternative A was the No Action alternative required by NEPA and served as a baseline against which to compare potential environmental consequences that could be associated with implementation of the other alternatives. Under this alternative, management for the two NCAs would be derived primarily from management decisions in the 1999 St. George Field Office RMP, as amended.

Alternative B, the BLM's Preferred Alternative in the Draft, emphasized resource protection, while allowing land uses that were consistent with the NCA purposes, current laws, Federal regulations, and agency policies. Management actions would strive to protect ecologically important areas, native vegetation communities, habitats for wildlife, including special status species, cultural resources, and the scenic qualities of each NCA from natural and human-caused impacts.

Alternative C emphasized the conservation and protection of NCA ecological, cultural, and scenic values and the restoration of damaged lands. Higher levels of restrictions on certain land uses and activities were proposed to achieve conservation goals, while continuing to allow for compatible public uses in the two NCAs.

Alternative D proposed a broader array and higher levels of public use and access by emphasizing diverse and sustainable recreation uses of the two NCAs, through the development of new, non-motorized trails and visitor amenities. In Alternative D of the Draft RMP for the Red Cliffs NCA, the BLM also proposed the designation of a new utility and transportation corridor to accommodate all of the potential highway alignments that Washington County provided to the BLM for the “northern transportation route”. Also under Alternative D, rights-of-way could be granted for new utilities, water lines, and associated roads within the designated utility and transportation corridor.

Proposed RMPs and Proposed Amendment and Abbreviated Final EIS

The Proposed RMPs for the Beaver Dam Wash and Red Cliffs NCAs and Proposed Amendment to the St. George Field Office RMP are primarily based on the management goals, objectives, and actions identified in the draft plans as the BLM's Preferred Alternative, Alternative B. However, in response to public comments and input from the Cooperating Agencies, other Federal and State agencies, tribal governments, and local governmental entities, components of the other alternatives that were presented in the draft plans and analyzed in the Draft EIS were selected to comprise management decisions in the Proposed RMPs and Proposed Amendment. In some cases, minor edits or clarifications were made and these are shown in italicized text surrounded by brackets in the proposed plans. None of the minor edits or clarifications required modifications to the analysis of the environmental consequences presented in Chapter 4 of the Draft EIS. The BLM has prepared an abbreviated Final EIS to support the Proposed NCA RMPs and Proposed Amendment, consistent with Federal regulations at 40 CFR 1503.4 (c). The resulting Proposed RMPs and Proposed Amendment address the range of public, agency, and governmental concerns about resource management and land uses in the planning area raised during the planning process, and meet the Congressionally-defined purposes of the NCAs and OPLMA's mandates related to public land management in Washington County.

Proposed Areas of Critical Environmental Concern

In accordance with 43 CFR 1610.7-2(b), the Notice of Availability for the Draft RMPs and Draft Amendment/Draft EIS (80 FR 42527, July 17, 2015) announced a concurrent public comment period on proposed ACECs. The Proposed Amendment includes proposed ACEC designations for the following areas:

South Hills ACEC: (1,950 acres)

• Value: Endangered Species Dwarf Bearclaw Poppy (Arctomecon humilis) and Holmgren Milkvetch (Astragalus holmgreniorum).

• Limitations on the Following Uses: Commercial and personal use woodland products harvesting (green wood, dead and down, poles, and Christmas trees) and firewood gathering would be prohibited; closed to mineral materials disposal; managed as exclusion area for linear, site-type, and material site ROWs; closed to native seed, plants, and plant materials harvesting for commercial purposes and personal use; open to fluid mineral leasing with a no surface occupancy stipulation; closed to dispersed camping; OHV area designation would be limited to designated roads and trails; and managed as Visual Resources Management (VRM) Class II.

State Line ACEC: (1,410 acres)

• Value: Endangered Species Holmgren's Milkvetch and Gierisch Globemallow (Sphaeralcea gierischii).

• Limitations on the Following Uses: Commercial and personal use woodland products harvesting (green wood, dead and down, poles, and Christmas trees) and firewood gathering would be prohibited; closed to mineral materials disposal; managed as exclusion area for linear, site-type, and material site ROWs; closed to native seed, plants, and plant materials harvesting for commercial purposes and personal use; open to fluid mineral leasing with a no surface occupancy stipulation; closed to dispersed camping; OHV area designation would be limited to designated roads and trails; and managed as VRM Class II.

Webb Hill ACEC: (520 acres)

• Value: Endangered Species Dwarf Bearclaw Poppy.

• Limitations on the Following Uses: Commercial and personal use woodland products harvesting (green wood, dead and down, poles, and Christmas trees) and firewood gathering would be prohibited; closed to mineral materials disposal; managed as exclusion area for linear, site-type, and material site ROWs; closed to native seed, plants, and plant materials harvesting for commercial purposes and personal use; closed to fluid mineral leasing; closed to dispersed camping; OHV area designation would be limited to designated roads and trails; and managed as VRM Class II.

Instructions for filing a protest with the Director of the BLM regarding the proposed plans may be found in the “Dear Reader” Letter of the Proposed RMPs for the Beaver Dam Wash National Conservation Area and the Red Cliffs National Conservation Area, and Proposed Amendment to the St. George Field Office RMP/abbreviated Final EIS and at 43 CFR 1610.5-2. All protests must be in writing and mailed to the appropriate address, as set forth in the ADDRESSES section above. Emailed protests will not be accepted as valid protests unless the protesting party also provides the original letter, either by regular or overnight mail and it is postmarked by the close of the protest period. Under these conditions, the BLM will consider the emailed protest as an advance copy and it will receive full consideration. If you wish to provide the BLM with such advance notification, please direct emails to protest@blm.gov. Before including your address, phone number, email address, or other personal identifying information in your protest, you should be aware that your entire protest—including your personal identifying information—may be made publicly available at any time. While you may ask us in your protest to withhold your personal identifying information from public review, we cannot guarantee that we will be able to do so.

Authority: 40 CFR 1506.6, 40 CFR 1506.10, 43 CFR 1610.2, 43 CFR 1610.5.

Jenna Whitlock,
Acting State Director.

[FR Doc. 2016-21185 Filed 9-1-16; 8:45 am]

BILLING CODE 4310-DQ-P